ENVIRONMENTAL PROTECTION AGENCY

[FRL-6912-9]

Notice of Proposed Administrative Settlement Pursuant to the Comprehensive Environmental Response, Compensation, and Liability Act

AGENCY: Environmental Protection Agency.

ACTION: Notice; request for public comment.

SUMMARY: In accordance with Section 122(i) of the Comprehensive Environmental Response, Compensation, and Liability Act, as amended (“CERCLA”), 42 U.S.C. 9622(i), notice is hereby given of a proposed administrative settlement concerning the Voda Petroleum Superfund Site, Clarksville City, Texas with the parties referenced in the Supplementary Information portion of this Notice.

The settlement requires the Settling Parties to pay a total of $589,200.00 in reimbursement of Past Response Costs, to the Hazardous Substance Superfund. The settlement includes a covenant not to sue pursuant to Section 107 of CERCLA, 42 U.S.C. 9607.

For thirty (30) days following the date of publication of this notice, the Agency will receive written comments relating to the settlement. The Agency will consider all comments received and may withdraw or withhold its consent to the proposed settlement if comments received disclose facts or considerations which indicate that the settlement is inappropriate, improper, or inadequate. The Agency's response to any comments received will be available for public inspection at 1445 Ross Avenue, Dallas, Texas 75202-2733.

DATES: Comments must be submitted on or before January 8, 2001.

ADDRESSES: The proposed settlement and additional background information relating to the settlement are available for public inspection at 1445 Ross Avenue, Dallas, Texas 75202-2733. A copy of the proposed settlement may be obtained from Carl Bolden (6SF-AC), U.S. Environmental Protection Agency Region 6, 1445 Ross Avenue, Dallas, Texas 75202-2733 at (214) 665-6713. Comments should reference the Voda Petroleum Superfund Site, Clarksville City, Texas and EPA Docket Number 6-13-00. Comments should be addressed to Carl Bolden at the address listed above.

FOR FURTHER INFORMATION CONTACT: Michael Boydston (6RC-S), U.S. Environmental Protection Agency 1445 Ross Avenue, Dallas, Texas 75202-2733 at (214) 665-7376.

SUPPLEMENTARY INFORMATION:

Ark-LA-Tex Waste Oil Company

Baxter's Oil Service Inc.

Clements Oil Corporation

Lucent Technologies Inc.

Mobil Oil Corporation and its subsidiaries

SBC Holding, Inc.

Texas Utilities Mining Company; Texas Utilities Generating Company; and TXU Electric Company

Dated: November 24, 2000.
Julie Jensen,
Acting Regional Administrator, Region 6.

[FR Doc. 00-31194 Filed 12-6-00; 8:45 am]

BILLING CODE 6560-50-U